DEPARTMENT OF AGRICULTURE

Forest Service

Alpine County Resource Advisory Committee (RAC)

AGENCY: Forest Service, USDA.

ACTION: Notice of meeting.

SUMMARY: The Alpine County Resource Advisory Committee (RAC) will hold a meeting.

DATES: The meeting will be held on June 15th, and will begin at 6 p.m. The meeting will be held in Alpine County at the Alpine Early Learning Center, 100 Foothill Road, Markleeville, CA 96120.

FOR FURTHER INFORMATION CONTACT: Daniel Morris, RAC Coordinator, USDA, Hurnboldt-Toiyabe National Forest, Carson Ranger District, 1536 S. Carson Street, Carson City, NV 89701 (775) 884-8140; E-Mail danielmorris@fs.fed.us.

SUPPLEMENTARY INFORMATION: Agenda items to be covered include: (1) Update on recommended projects (2) Determine parameters and timeframes for next round of projects (3) Discuss Charter Renewal (4) Public Comment. The meeting is open to the public. Public input opportunity will be provided and individuals will have the opportunity to address the Committee at that time.

Dated: May 21, 2010.
Genny E. Wilson,
Designated Federal Officer.

[FR Doc. 2010-12864 Filed 5-28-10; 8:45 am]

BILLING CODE 3410-11-M